ELECTION ASSISTANCE COMMISSION

Publication of State Plan Pursuant to the Help America Vote Act

AGENCY: U.S. Election Assistance Commission (EAC).

ACTION: Notice.

SUMMARY: Pursuant to sections 254(a)(11)(A) and 255(b) of the Help America Vote Act (HAVA), Public Law 107-252, the U.S. Election Assistance Commission (EAC) hereby causes to be published in the Federal Register changes to the HAVA State plan previously submitted by Georgia.

DATES: This notice is effective upon publication in the Federal Register.

FOR FURTHER INFORMATION CONTACT: Bryan Whitener, Telephone 202-566-3100 or 1-866-747-1471 (toll-free).

Submit Comments: Any comments regarding the plans published herewith should be made in writing to the chief election official of the individual State at the address listed below.

SUPPLEMENTARY INFORMATION: On March 24, 2004, the U.S. Election Assistance Commission published in the Federal Register the original HAVA State plans filed by the fifty States, the District of Columbia and the Territories of American Samoa, Guam, Puerto Rico, and the U.S. Virgin Islands. 69 FR 14002. HAVA anticipated that States, Territories and the District of Columbia would change or update their plans from time to time pursuant to HAVA section 254(a)(11) through (13). HAVA sections 254(a)(11)(A) and 255 require EAC to publish such updates. This is Georgia's first revision to its State plan.

The revised State plan from Georgia addresses changes in the budget of the previously submitted State plan and accounts for the use of Fiscal Year 2008 requirements payments. The State has changed the focus of its plan from the initial deployment of voting system components and the related education of the public and local election officials to the continued maintenance of Georgia's voting system and the replacement of the State's voter registration database. In accordance with HAVA section 254(a)(12), the State plan submitted for publication provides information on how the State succeeded in carrying out its previous State plan. The State confirms that these changes to its State plan were developed and submitted for public comment in accordance with HAVA sections 254(a)(11), 255, and 256.

Upon the expiration of thirty days from September 18, 2008, the State is eligible to implement the changes addressed in the plan that is published herein, in accordance with HAVA section 254(a)(11)(C).

EAC wishes to acknowledge the effort that went into revising this State plan and encourages further public comment, in writing, to the State election official listed below.

Chief State Election Official

The Honorable Karen C. Handel, Secretary of State, 2 Martin Luther King Jr. Drive SE., Suite 1104 West Tower, Atlanta, Georgia 30334, Phone: (404) 657-5380, Fax: (404) 657-5371. Thank you for your interest in improving the voting process in America.

Dated: September 12, 2008.
Thomas R. Wilkey,
Executive Director, U.S. Election Assistance Commission.

2008 STATE PLAN, AMENDED

Help America Vote Act of 2002

State of Georgia

Plan amended and submitted by Karen Handel, Secretary of State, August 6, 2008.

As required by Public Law 107-252, Help America Vote Act 2002, Section 253(b).

Table of Contents

Preamble

PART ONE

Chapter 1—Historical Election Challenges

Chapter 2—Election Reform (2001 and 2002)

2.1 Direction in Code and Rule

2.2 The 21st Century Voting Commission

2.3 Pilot Project

2.4 System Selection

2.5 System Deployment

Chapter 3—2003 HAVA Status and Steps for Completing Compliance

3.1 2003 Compliance Status

3.2 2003 Legislative Steps for Completing Compliance

3.3 2003 Administrative Actions and Certifications

PART TWO

Chapter 4—Change and Implementation Summary

4.1 Overview of Changes to the 2003 State Plan

4.2 Successful Implementation of the 2003 State Plan

Chapter 5—2008 HAVA State Plan, Amended Implementation

5.1 Use of Requirements Payments

5.2 Distribution and Monitoring

5.3 Voter Education and Training

5.4 Voting System Standards

5.5 Election Fund Established

5.6 Proposed Budget

5.7 Maintenance of Effort

5.8 Performance Goals and Measures

5.9 Administrative Complaint Procedures

5.10 Effect of Title I Payments

5.11 Management of the Plan

5.12 Previous State Plan Implementation and Changes

5.13 State Plan Committee

Appendix 1—2003 Status & Implementation

Preamble

This document is Georgia's current plan for continuing implementation of the Help America Vote Act (HAVA). The 2008 HAVA State Plan, Amended presents Georgia's historic election reform process that supported the creation of the 2003 HAVA State Plan, a summary of how the 2003 plan was implemented, and plans for upcoming years.

Part One of this plan memorializes important historical context preceding the 2003 Georgia State Plan. Georgia is justifiably proud of having initiated important election reforms in anticipation of HAVA. Many of HAVA's requirements had already been implemented in Georgia by the November 2002 general election. Hence, Georgia's 2003 HAVA State Plan reflected a starting place that was significantly further ahead of most other states at that time.

Part Two of the 2008 HAVA State Plan, Amended describes how Georgia has implemented its previous state plan (Chapter 4) and presents its plans for upcoming years (Chapter 5). While fully compliant with HAVA, Georgia is committed to on-going improvements. In that spirit, the 2008 HAVA State Plan, Amended focuses on: (1) Replacing Georgia's 1993 computer system supporting voter registration and elections management; (2) replacing components to preserve the reliable, accurate performance of Georgia's statewide uniform electronic voting system; and (3) continuing other successful initiatives that have proven valuable during the past 7 years.

Activity under the 2003 State Plan had $77,304,946 in Federal funds available, plus State funds in excess of the required 5 percent match. Funds available for activity in the 2008 State Plan, Amended total $4,971,521 as shown in Table 1.

Table 1—Available Funding for 2008 HAVA State Plan, Amended
| Federal funds | State match | Total
Remaining Title I Funds | $1,137,260 | (already spent) | $1,137,260
Remaining Title II Funds | 497,587 | (already spent) | 497,587
2008 Funds Title II | 3,169,840 | $166,834 | 3,336,674
Total Funds Available |  |  | 4,971,521

Part One

Chapter 1—Historical Election Challenges

America's elections were primarily conducted by county and municipal governments through the year 2000. In Georgia, each county was responsible for the selection and purchase of the county voting system. The local election superintendent was responsible for the maintenance and testing of the voting systems as well as for the layout and printing of election ballots pursuant to state law.

In the November 2000 General Election, 93,991 ballots in the State of Georgia did not register a vote in the Presidential race, because: (1) The voter accidentally marked more than one vote for the office; (2) the voter attempted to make a choice, but did not mark the ballot correctly; (3) the voting device failed to count the vote cast; or (4) the voter chose not to vote for the President.

To evaluate the conduct of elections in Georgia during the weeks following the November 2000 General Election, the Secretary of State compiled and analyzed information from citizen complaints, minutes of public hearings conducted by the NAACP, concerns submitted by the League of Women Voters, and dozens of interviews of local election superintendents, voter registrars, and political party leaders. As a result of this analysis, the following issues were identified as affecting Georgia's elections:

1. Outdated voting equipment;

2. Ballot problems;

3. Lines too long & other polling place deficiencies;

4. Shortage of trained poll workers;

5. Election law violations;

6. Slow processing of Absentee Ballots;

7. Growth of “language minorities”;

8. State mainframe computer system unreliable;

9. Counties slow to report election results; and

10. Voter registration process costly and slow.

The Secretary of State also noted that the state was using four different types of voting systems, that no uniformity existed among the counties for counting votes, and that each system experienced a significant amount of under-votes. An analysis was then conducted of the under-votes that occurred on each type of voting system on a county-by county basis. In the 2000 General Election, the average percentage of under-votes for each system used in the State for all counties was 3.6%.

A summary of results is shown in Table 2 below.

Table 2—Voting Equipment Performance
[2000 general election]
Voting system | Year invented | Introduced in Georgia | Counties using system | Under vote percentage | Votes not counted
Paper ballot | 1889 | 1900 | 2 | 3.3 | 113
Punch card | 1890 | 1964 | 17 | 4.6 | 38,065
Lever machine | 1892 | 1950 | 73 | 4.2 | 16,926
Optical-scan | 1980 | 1986 | 67 |  |
—Central count |  |  |  | 4.2 | 21,999
—Precinct count |  |  |  | 4.7 | 16,196

A report compiling the results of the study was prepared and presented to the Governor and the Members of the General Assembly with the following recommendations:

1. Adopt a Statewide Uniform Electronic Voting Initiative—Authorize, fund, and deploy a Statewide Uniform Electronic Voting Initiative (SUEVI) to create a single uniform method of voting consistent in every county in the state;

2. Implement Early Voting—Enhance polling place convenience and reduce Election Day waiting;

3. Overhaul the Voter Registration System—Upgrade the state's voter registration database from the slow, unreliable, inflexible, and expensive mainframe system to a flexible state-of-the-art server-based system;

4. Pursue Poll Worker & Poll Location Alternatives—Seek new alternatives to assist counties in securing new poll locations and recruiting and training poll workers, both of which are in short supply;

5. Streamline Polling Place Procedures—Reduce or eliminate burdensome paperwork and procedures at the polls and move voters more quickly through the voting process;

6. Consolidate Authority to Remove Deceased Voters from Voter List—Authorize the Secretary of State to remove deceased voters from the voter rolls to assure a more accurate voter list, (responsibility that previously rested solely with the counties); and

7. Modernize Voter Information Resources—Use new centralized technology solutions to offer citizens quicker, easier means to locate their precinct and verify their voter registration.

The Secretary's report to the Governor and the Members of the General Assembly recommended that the State adopt a single uniform voting platform. Importantly, it also initiated a shift in policy—transferring a portion of election responsibilities from the counties and election superintendents to the State for funding and deployment of a new statewide election system.

Chapter 2—Election Reform (2001-2002)

2.1 Direction in Code and Rule

Recognizing the need to address concerns with the elections process, the General Assembly enacted bipartisan legislation, Senate Bill 213, (hereinafter “SB 213”) which the Governor signed into law on April 18, 2001. Official Code of Georgia Code Annotated § 21-2-300 (hereinafter O.C.G.A. § 21-2-300). This legislation established the policy and the statutory framework for Georgia to begin identifying and deploying essential changes to its election system.

Chief among the changes to the election system was the policy directive that the Secretary of State would purchase and deploy a uniform voting system for casting and counting votes in all county, state and federal elections by the July 2004 General Primary. The Secretary of State was authorized to deploy to the counties a voting system that met requirements established by the Secretary of State. O.C.G.A. § 21-2-300 (a). On August 30, 2002, the State Election Board advanced the implementation date to the November 2002 General Election with Rule 183-1-12-.01. With adoption of this directive, Georgia became the first state in the nation to set a deadline for the implementation of a modern uniform statewide voting system.

O.C.G.A. § 21-2-300 also authorized the Secretary of State to conduct a pilot project to test and evaluate the use of electronic voting systems during the 2001 municipal elections. It created the 21st Century Voting Commission (hereinafter “Voting Commission”) to oversee the pilot project. The statute further authorized the Voting Commission to make recommendations to the General Assembly and the Secretary of State.

2.2 The 21st Century Voting Commission

The purpose of the Voting Commission was to:

1. Oversee the electronic voting pilot project,

2. Test direct recording electronic (DRE) voting equipment,

3. Advise the Secretary of State on the choice of voting equipment to be used statewide in all counties pursuant to O.C.G.A. § 21-2-300, and

4. Report findings to the Governor and the General Assembly by December 31, 2001.

The Voting Commission included four Democrats, four Republicans, eight Non-Partisan members, one Independent, and one member of the Libertarian Party of Georgia, six local county election officials, the Director of the State Elections Division, as well as five members of the Georgia General Assembly (three from the House and two from the Senate). The Voting Commission also accepted input from various public interest groups representing minorities, disabled voters and multi-lingual groups.

As its first priority, the Voting Commission investigated voting systems and established standards that a voting system would have to meet in order to be considered for the pilot project and use in the State of Georgia. The standards included:

1. A convenient and intuitive voter interface;

2. Features that prohibit duplicate, or over-votes;

3. Opportunity to correct under-vote or over-votes on ballot;

4. Strong security components to assure that votes cannot be lost or cast without authorization;

5. The capability to print, if required, a written record of each ballot cast;

6. The flexibility to store and present thousands of different ballot variations or “styles”;

7. The capability to be fully accessible to blind voters and those with other disabilities and allow disabled voters to cast their ballot independently and without assistance;

8. The ability to compute final results and generate a variety of election reports very quickly; and

9. A turnkey system that would allow each county to conduct any election from start to finish without any assistance from the Vendor.

2.3 Pilot Project

Upon establishing the system standards of the voting platform, the Voting Commission prepared for the November 2001 Pilot Project. In response to a request-for-proposals (RFP) commissioned by the Voting Commission, seven DRE system vendors petitioned to participate in the November 2001 Pilot Project. At a June meeting of the Voting Commission in Atlanta, all seven vendors demonstrated their systems and presented their experience and track record in the industry. The Voting Commission recommended that all seven vendors be allowed to participate in the project, provided that each vendor obtained the necessary national and state certifications in time to adequately prepare for the November 2001 Election.

The Secretary of State entered into contracts with six certified vendors to conduct the Pilot Project. Using a lease agreement, the vendors agreed to provide voting systems for the Pilot Project at a special rate of $600 per voting unit. The contracts required that vendors transport the units to and from the cities, provide training for both election superintendents and poll workers, assist with voter education efforts via public demonstrations, and have staff present in precincts to provide Election Day support.

The Voting Commission held five public hearings and additional sub-committee work sessions across the State of Georgia. In these hearings, the Voting Commission reviewed data on voting error rates, heard presentations from manufacturers of electronic voting equipment and testimony from election officials from Georgia and other states, considered comments from interest groups, stakeholders, and the general public on voting issues, and reviewed the election results from the Pilot Project. Several Voting Commission delegations also traveled to other states to personally observe elections in which DRE voting equipment was used.

Based on information obtained from the extensive analysis and review of data, public testimony, and observations obtained from the Pilot Project, the Voting Commission made the following system recommendations to the Governor and members of the General Assembly:

1. Georgia's uniform election platform should be a DRE voting system used for Election Day in-precinct voting, for in-person absentee voting, and, if authorized by new legislation, for in-person “advance” or “early” voting. The DRE system selected should have the capability to prevent duplicate, or over-votes, provide voters with a “summary screen” to warn voters of potential under-votes or selection errors, and include a process for voters to correct errors or omissions before a final vote is cast. The system should include on-board battery back-up in case of power failure, have the capability to produce an independent and paper audit trail of every ballot cast and should permit a visually impaired voter, and others with disabilities, to cast a ballot independently and without assistance.

2. For absentee voting by mail, the uniform system should include an optical scan component. The optical scan component should integrate seamlessly with the DRE components of the system for ballot preparation and tabulation.

3. The uniform election system should be controlled by an Election Management System or software program that will allow election officials to easily design both DRE and optical scan ballot formats simultaneously, that will integrate all results into a single vote tallying report and that will easily interface with existing and future voter registration systems.

4. The state should seek to maximize the benefits of statewide negotiating and purchasing capacity by securing a statewide software license, as well as favorable pricing for technical support, maintenance and additional or replacement equipment that is made available for the benefit of local governments.

The Voting Commission unanimously adopted these recommendations and submitted them to the Governor and members of the General Assembly in December 2001.

2.4 System Selection

Based upon the success of the Pilot Project and the recommendation from the Voting Commission, the Governor authorized and the General Assembly approved a Statewide Uniform Electronic Voting Initiative Fund (SUEVI) and authorized $54 million in bond funds for the purchase of a statewide uniform electronic voting system. An additional $3.8 million was authorized to establish the voter education fund and $500,000 for the creation of an Election Center for election official training and support at the Kennesaw State University Center for Election Systems (hereinafter “KSU Center for Election Systems”).

Upon establishment of the election fund, the Secretary of State and the Georgia Technology Authority (hereinafter “GTA”) initiated an RFP process in January 2002 and began evaluating proposals from vendors capable of supplying a Direct Recording Electronic Voting System on a statewide basis for 2,926 precincts in 159 counties. The RFP required each vendor to submit a proposal that included: Voting system specifications, pricing plans, deployment plan and schedule, training plan and schedule for hardware and software training, short term and long term service plans, and a proposal for voter education efforts.

In response to the RFP, nine vendors submitted bids for the deployment of a statewide voting system. An intensive proposal and demonstration process then began with the assistance of the Georgia Technology Authority. Through an extensive evaluation process conducted by GTA and the evaluation committee, Diebold Election Systems, Inc. (hereinafter “Diebold”) was selected as the state's vendor for election equipment.

The State of Georgia entered into a contract with Diebold on May 3, 2002, wherein the State of Georgia and Diebold agreed to deploy a uniform voting system in every county within a 6-month implementation period (186 days prior to the November 5, 2002 election).

2.5 System Deployment

The deployment plan Diebold provided in response to the State's RFP included the following phases: System testing, system development, system training and voter education.

2.5.1 System Testing

System testing involved 19,015 DRE voting stations, 400 absentee ballot systems and 161 voting system servers to be tested a minimum of 4 times including at the:

1. Manufacturer's warehouse;

2. Central processing warehouse;

3. County acceptance testing location by KSU; and

4. Logic and Accuracy testing conducted by Diebold and County election staff days before the November election.

2.5.2 System Deployment

Secretary of State created a formula based on one DRE unit per 200 active registered voters in each county to determine the number of DRE units each county would receive. Before delivery, intergovernmental agreements were created between the State and each county which included terms for the storage, protection and use of the voting system. To facilitate deliveries and support, counties were grouped into 12 delivery regions. Dates were then established for delivery of components of the voting system to the Counties. Site surveys were conducted of polling places for assurances of adequate electrical supply, structural support of the building and security of the building for protection of the voting system.

2.5.3 System Training

Extensive training and support of local election officials was an important factor in the successful initial deployment of equipment, as well as of its subsequent use. Election official training on the operation of the voting system officials was provided by Diebold. On-site county training at the request of the county was provided on behalf of the Secretary of State's office by the KSU Center for Election Systems. Additional regional “refresher” sessions were conducted by the Secretary of State's State Elections Division. Preparations included poll worker training (at least 2 trained per precinct for all 2,926 precincts) provided at each county by Diebold. Further training was conducted by KSU Center for Election Systems and Diebold upon the request of individual county election officials.

2.5.4 Voter Education

The Secretary of State's Office conducted direct voter education and supported outreach conducted by county election officials. A poll worker training video was created and used statewide to ensure uniform use of the equipment in polls on Election Day. A voter education video and a 30-second public service announcement entitled “Touch the Future” was developed and distributed for use statewide. State, regional and county level “Voter Education Coordinators” were deployed by the Secretary of State's Office to conduct hands-on DRE demonstrations in every county. Printed materials were distributed through U.S. mail and selected community groups. Comprehensive voter education Web site with interactive equipment demonstration was established and DRE unit demonstrations were conducted in a variety of settings including public meetings, school assemblies, and community festivals.

2.5.5 Deployment Outcome

There were significant improvements in the conduct of the November 2002 General Election in Georgia. The under-vote rate for the 2002 U.S. Senate Election was a historically low 0.86% (a dramatic reduction, compared to the 2000 Presidential Election under-vote rate of 3.5% and the 1998 U.S. Senate Election under-vote rate of 4.8%). Emphasis on election official training, voter education coordination at the regional and local level, and enthusiastic participation by state and county election officials, poll workers, and voters contributed to this success.

Chapter 3—2003 HAVA Status and Steps for Completing Compliance

3.1 2003 HAVA Status

Georgia's successful use of its uniform statewide electronic voting system in the November 2002 General Election put it substantially in compliance with Help America Vote Act requirements. Steps already taken in anticipation of HAVA legislation are shown in Appendix 1—2003 Compliance Status. Remaining steps which were still pending completion in December, 2003 are also identified in Appendix 1.

3.2 2003 Legislative Steps for Completing Compliance

To complete compliance with HAVA requirements the Georgia General Assembly provided certain authorizations which could be included in the HAVA 2003 State Plan. This was accomplished with passage of Senate Bill 258 (hereinafter “SB 258”), which was signed by the Governor on June 2, 2003. Upon approval of SB 258 by the United States Department of Justice, the State of Georgia had the statutory framework in place to implement all necessary procedures to bring Georgia into full compliance with the Help America Vote Act.

SB 258 revised the following six areas of the Election Code:

1. Definition of a vote—The Election Code previously provided the definition of a vote for each election system used in the State of Georgia for federal, state and local elections. SB 258 authorized the State Election Board (SEB) to promulgate rules (SEB Rule 183-1-15-.02) to consolidate and define a vote as required by HAVA and the establishment of a Vote Review Panel to review ballots rejected by optical scan tabulators (see O.C.G.A. § 21-2-483(g)(2)(B)).

2. Military and Overseas Ballots—SB 258 amended the Election Code to give responsibility for military and overseas civilian absentee voting procedures to the Secretary of State's Office. SB 258 also provided that applications for absentee ballots for military and overseas voters shall be valid for two election cycles as required for those voting under the Uniformed and Overseas Civilians Absentee Voting Act (UOCAVA). It also authorized the Secretary of State to adopt a new ballot oath created by the Federal Voting Assistance Program (FVAP).

3. Registration of first-time voters by mail—SB 258 amended the Election Code to provide that citizens who register for the first time by U.S. Mail are required to include with that registration application one of the forms of identification specified in HAVA. Those who register by mail and do not include such documentation will be required to present identification at the polling place. Persons who are entitled to vote other than in person under federal law, including UOCAVA, are exempt from this provision. (HAVA Section 303(b)(3) and O.C.G.A. § 21-2-220(c)(2)).

4. Provisional Ballots—SB 258 amended the Election Code to provide that ballots cast during an election with federal candidates on the ballot at a polling place during court-ordered extended polling hours shall be treated as provisional ballots. It also required county election officials to provide notification to the voter regarding how to obtain information on whether the provisional ballot was counted and also requires county registrars to create a free access system that allows the voter to determine whether the provisional ballot was counted or not.

5. “Overvote” Instructions—Georgia's DRE voting system precludes a voter from casting too many votes for an office (an “overvote”) at the polling place. SB 258 amended the Election Code to provide that the absentee ballot instructions for optical scan mail in ballots include information about overvotes and explain how to avoid them. SB 258 also required that optical scan tabulators be programmed to return (reject) ballots containing overvotes or improper marks.

6. State Administrative Complaint Procedures—SB 258 amended the Election Code to authorize the Secretary of State (as the designated Chief Election Official) to establish and administer an administrative complaint procedure for processing complaints related to HAVA Title III. (see Secretary of State Rule 590-8-1-.01)

3.3 2003 Administrative Actions and Certifications

Georgia's 2003 HAVA State Plan provided in Chapter IV reflects that Georgia had taken steps to meet and implement the following:

1. Early Money Out Certification, HAVA Section 101(a): The 2003 State Plan indicated that Georgia had certified and indicated participation for receipt of Title I payments through the GSA Web site. Funds were subsequently received.

2. Accessibility of polling places for disabled voters, HAVA Section 101(b)(1)(G): The 2003 State Plan indicated Georgia's intent to survey and supervise the improvement of accessibility and quality of polling places providing physical access for individuals with disabilities. A statewide survey was subsequently made and used as the basis to implement a state-administered grant program for polling place accessibility improvements.

3. Toll-free Access System, HAVA Section 101(b)(1)(H): The 2003 State Plan indicated Georgia's intent to study and evaluate a toll-free hotline that voters may use to:

a. Report possible voting fraud and voting rights violations,

b. Obtain general election information, and

c. Access detailed automated information on their voter registration status, specific polling place locations, and other relevant information.

Georgia subsequently implemented a toll-free hot line.

4. Certify Replacement of Punch Card or Lever Voting Machines, HAVA Section 102: The 2003 State Plan indicted that Georgia had certified that it had replaced punch card and lever voting systems and intended to use Section 102 funding to reimburse the State treasury as HAVA allowed. Reimbursements were subsequently made.

5. Membership of Standards Board, HAVA Section 213: Two representatives to the Standard's Board were appointed as required. New appointments have been made as necessary.

6. Certification of Use of Title II Requirements Payments, HAVA Section 253: The 2003 State Plan indicated Georgia's intent to certify that it would use Requirements payments in the manner required. Certification was provided and funds were subsequently received.

7. Administrative Complaint Procedure, HAVA Section 402: The 2003 State Plan indicated Georgia's intent to implement rules to administer the Administrative Complaint Procedure pursuant to authority granted in SB 258 to the Secretary of State. Rule 590-8-1-.1 “Administrative Complaint Procedure for Violations of Title III of the Help America Vote Act of 2002” was adopted on May 11, 2004 and published by the EAC in the Federal Register, Vol. 70, No.169, Thursday, September 1, 2005 on page 52183.

8. Military and Overseas Voting Information Office, HAVA Sections 702 and 703: The Secretary of State pursuant to SB 258 became the Designated Military and Overseas Voting Information Office and assumed related responsibilities for reporting to the Election Assistance Commission.

9. State Plan Submitted, HAVA Section 254: The 2003 State Plan indicated that it was meeting the requirements of HAVA Section 254. The 2003 State Plan was submitted on December 10, 2003. It was published by the EAC in the Federal Register, Vol. 69, No. 57, Wednesday, March 24, 2004 on pages 14247 to 14263.

Part Two

Chapter 4—Change and Implementation Summary

This chapter describes how the 2008 amendments change Georgia's HAVA State Plan and report on how Georgia succeeded in carrying out the previous state plan (in fulfillment of the Help America vote Act of 2002, Section 254(a)(12)). The 2008 amendments to the State Plan were developed in accordance with HAVA Section 255 and the requirements for public notice and comment prescribed in Section 256 of HAVA.

4.1 Overview of Changes to the 2003 State Plan

Part One of Georgia's 2008 HAVA State Plan, Amended presents the historic election reform process that preceded and supported the creation of the 2003 HAVA State Plan. Part One is comprised of: Chapter 1, Historical Election Challenges; Chapter 2, Election Reform (2001 and 2002); and Chapter 3, 2003 HAVA Status and Steps for Completing Compliance. These three chapters contain the background information previously contained in Chapters I through IV of the 2003 HAVA State Plan.

Part Two of Georgia's 2008 HAVA State Plan, Amended, is comprised of Chapters 4 and 5 which update the previous plan from 2003. Chapter 4 presents the required summary of changes and reports on how the 2003 plan was carried out. This chapter is completely new material because there have been no amendments to the Georgia HAVA State Plan prior to 2008.

Chapter 5, Implementation of the 2008 HAVA State Plan, Amended presents plans for future activity. It has 13 sections, one for each part of HAVA, Section 254(a) which specifies required parts of the HAVA State Plan. This chapter replaces the implementation Chapter V from 2003 HAVA State Plan. While the 2003 plan focused heavily on the initial deployment of voting system components and the related education of the public and local election officials, emphasis in the 2008 plan is on continuing the integrity Georgia's voting system (including component replacements) and on replacing the 1993 computer system supporting statewide voter registration and state elections administration.

4.2 Successful Implementation of the 2003 State Plan

After enactment of Georgia's Senate Bill 258 on June of 2003, the Georgia HAVA State Plan was adopted on December 10, 2003 and published by the U.S. EAC in the Federal Register on March 24, 2004. Implementation followed immediately in 2004.

Implementation of Georgia's 2003 HAVA State Plan has been a success. Financial reporting on annual expenditures, use of the State's five percent funding match, and of Georgia's on-going maintenance of effort at or above the State Fiscal Year 2000 amount have been reported separately in Georgia's annual Financial Status Report and accompanying narrative. Only the replacement of the computer system supporting statewide voter registration and election administration was deferred from the previous plan for action in the current plan. A summary of accomplishments and activity is presented in the following sections.

4.2.1 2004 Implementation of the 2003 State Plan

1. In 2002 Georgia replaced all punch card and lever voting machines through State purchase and deployment of 19,015 DRE voting units (approximately one for every 200 active voters) to establish a statewide uniform, accessible voting system. During 2004 the state was reimbursed under HAVA provisions for voting system replacement.

2. To improve voting machine availability and to support in-person absentee voting, an additional 955 DRE voting units were purchased and distributed to counties prior to the November 2004 General Election.

3. The State purchased 24,250 additional flash memory cards for the DRE voting units to provide greater efficiency in preparing for federal, state, and local runoffs resulting from elections held during the 2004 General Election Cycle.

4. The State acquired state-specific voter access cards and supervisor cards for use with DRE voting units purchased in compliance with Title II and the voting system standards of Title III Section 201. These state-specific cards enabled the State of Georgia to provide increased security for the state's uniform voting system.

5. The State provided election officials in all counties with three days of technical support for DRE voting units and GEMS servers technology for each of the following elections held in 2004: Presidential Preference Primary, Primary Election, Primary Runoff, General Election and General Election Runoff.

6. The Department of State Audits completed an audit of the State HAVA Fund.

7. Ballot building became a cooperative program between the Secretary of State's Office and the Kennesaw State University Center for Election Systems to support statewide ballot quality and timeliness. Related instructional materials were provided on voting system components and voting system supplies to all 159 counties for use during 2004 federal and state election cycle.

8. Acceptance testing for all voting equipment and the responsibilities for related equipment evaluation, local election official training and support, and overall voting system security were added to duties that Kennesaw State University Center for Election Systems conducts for the Secretary of State.

9. The State developed and distributed statewide HAVA compliant polling place posters, voter registration materials and other forms for elections administration.

10. The State presented training to support implementation to local election officials through: The Georgia Election Official Certification program; conferences of statewide election official associations (Georgia Election Officials Association, Voter Registrars Association of Georgia, and Georgia Municipal Association); classes at Kennesaw State University Center for Elections; and through regional and county level sessions.

11. The State provided voting system demonstrations and education to voters and assisted county officials in doing so as well.

12. The statewide voter registration system was enhanced with system upgrades, and counties were supported with related instruction, helpdesk support and connectivity support.

13. Compliant provisional voting procedures were implemented using newly created materials.

14. Accessibility for voters with disabilities was assessed for each polling place by surveying each county. Results were used by the Secretary of State to help define training needs, create a training video and brochure, and to guide grant participation in the program administered by the U.S. Department of Health and Human Services for polling place accessibility improvements.

15. The required administrative complaint process was put in place through rule-making and implementation by the Secretary of State. Information relating to the Administrative Complaint Process can also be found on the Secretary of State's Web site at http://www.sos.state.ga.us.

4.2.2 2005 Implementation of the 2003 State Plan

1. An optical scan ballot tabulator was purchased and deployed to every county to improve the processing of mailed absentee ballots.

2. Electronic poll books (ExpressPolls) were purchased for each polling place to streamline the voting process and further enhance the voting system and the preparation of registered voter lists. ExpressPolls also replaced the encoder component necessary for accessing election ballots on the DRE voting units.

3. The Secretary of State conducted regional training for the 159 county election superintendents and their staff on the use of DRE voting systems, related HAVA requirements and additional federal laws for improved elections administration.

4. Proper management of the State HAVA Fund was assured through an audit by the Department of State Audits.

5. The State acquired three backup computer servers, memory card duplication equipment for ExpressPolls and extended warranty on the DRE voting units to ensure proper maintenance in preparation for the 2006 General Election.

6. The Secretary of State made initial assessments of the availability of vendors who might provide a new voter registration system and of the higher level requirements of such a system.

7. The Secretary of State continued programs for voter education and outreach programs; local election official training, voting system procedures and security enhancements, ballot building, polling place accessibility, and for the voter registration system's security monitoring, maintenance, and system upgrades.

4.2.3 2006 Implementation of the 2003 State Plan

1. Equipment to duplicate flash cards for use in ExpressPolls was purchased to improve processing for each election.

2. The security of the statewide voter registration system was improved with the addition of a dynamic security password for database access.

3. The Secretary of State provided local election officials in every county with three days of technical support for DRE voting units, GEMS servers technology, and electronic poll books (ExpressPolls) in each of the following elections: Primary Election, Primary Runoff, General Election and General Election Runoff.

4. Programs continued for voter education and outreach programs; local election official training, voting system procedures and security enhancements, ballot building, polling place accessibility, and for the voter registration system's security monitoring, maintenance, and system upgrades.

4.2.4 2007 Implementation of the 2003 State Plan

1. Electronic poll book (ExpressPolls) were upgraded to facilitate uploading to the statewide voter registration system the voters' record of having participated in the election and other enhancements recommended by local election officials.

2. The Secretary of State contracted for regional quick response teams to be available for technical support to county election officials for electronic poll books, voting units and GEMS servers technology for the February 2008 Presidential Preference Primary.

3. Prepared to contract a 2008 statewide program for maintenance and limited replacement of GEMS servers used in each county.

4. Polling place accessibility was again surveyed, program materials updated, additional grant funds received, and reimbursements were made for approved remedial improvements completed by counties.

5. Programs continued for voter education and outreach programs; local election official training, voting system procedures and security enhancements, ballot building, and for the voter registration system's security monitoring, maintenance, and system upgrades.

4.2.5 2008 Implementation of the 2003 State Plan

1. The Secretary of State contracted for regional quick response teams to be available for technical support to county election officials for electronic poll books, voting units and GEMS servers technology for the following elections held in 2008: Presidential Preference Primary, Primary Election, Primary Runoff, General Election and General Election Runoff.

2. A statewide program for maintenance and limited replacement of GEMS servers used in each county was carried out.

3. Programs continued for voter education and outreach programs; local election official training, voting system procedures and security enhancements, polling place accessibility, ballot building, and for the voter registration system's security monitoring, maintenance, and system upgrades.

Chapter 5—Implementation of the 2008 HAVA State Plan, Amended

Chapter 5 presents Georgia's plans for 2008 and following years. It consists of 13 parts, one for each section of HAVA 254(a), which sets forth the required content of the state plan. Parts 5.1 through 5.13 each begin with the statutory requirement of that part of the plan and the following portion provides Georgia's fulfillment of that requirement.

5.1 Use of Requirements Payments

Part 5.1 of Georgia's State Plan implementation describes “how the State will use the requirements payments to meet the requirements of Title III, and if applicable under Section 251(a)(2), to carry out other activities to improve administration of elections” as required by Public Law 107-252, Help America Vote Act of 2002, Section 254(a)(1).

To continue meeting the requirements of Title III in 2008 and following years, Georgia will expend funds for the following purposes:

1. A portion of the Requirements Payments will be used to conduct maintenance on servers used as part of the statewide uniform electronic voting system, and to replace aging servers and other voting system components.

2. A portion of the Requirements Payments will be used to replace the fifteen-year-old (1993) centralized voter registration system currently being used by the State. The new system will allow an easier interface and more efficient system functions (e.g., electronic sharing and comparison of data among units of government to confirm voter eligibility).

3. Additional expenditures may be made in the following areas:

• Voter education activities;

• Election official training activities;

• Development of Statewide Uniform Poll Worker Training Curriculum and Handbook;

• Any other activities allowed under HAVA.

5.2 Distribution and Monitoring

Part 5.2 of Georgia's State Plan implementation describes “how the State will distribute and monitor the distribution of the requirements payment to units of local government or other entities in the State for carrying out the activities described in paragraph (1), including a description of—(A) the criteria to be used to determine the eligibility of such units or entities for receiving the payment; and (B) the methods to be used by the State to monitor the performance of the units or entities to whom the payment is distributed, consistent with the performance goals and measures adopted under paragraph 8” as required by Public Law 107-252, Help America Vote Act of 2002, Section 254(a)(2).

5.2.1 Distribution of Requirements Payments—Section 254(a)(2)(A)

As the State's chief election official, the Secretary of State is authorized by O.C.G.A. § 21-2-300 to implement and deploy a statewide uniform voting system for use by local election officials in county, state, and federal elections.

The Secretary of State will centrally administer expenditures to maintain the reliability of the statewide uniform voting system so there will be no related fund distributions among counties. In 2008, emphasis will be on conducting server maintenance and assessing the need to replace individual servers. Servicing, replacement of components, and replacement of servers will be as deemed prudent by the Secretary of State. The HAVA State Plan, Amended anticipates replacing up to all 170 servers used to tabulate votes in each of Georgia's 159 counties during 2008 and following years, including a small inventory for emergency replacement and dedicated training units.

An individual county will be deemed eligible to receive a replacement server when, in the judgment of the Secretary of State, replacement of the existing unit is warranted based on considerations including, but not limited to, the age of the unit, the service history of the unit, the nature of pending repairs, and the continuing availability of parts.

Intergovernmental Agreements for use of voting equipment remain in place as do past practices of maintaining inventory listings and access logs.

The Secretary of State will centrally administer expenditures supporting the replacement of the 1993 statewide voter registration system with a modern system so there will be no related fund distributions among counties. Counties will all receive training and helpdesk support in the use of the new system.

5.2.2 Monitoring of Requirements Payments—Section 254(a)(2)(B)

The Secretary of State is responsible for disbursing and tracking Title I and Title II funds for the projects to enhance election administration.

If local units of government (or other entities) receive payments, the Secretary of State will monitor the performance of those parties consistent with performance goals and measures adopted under Section 8 of this chapter. Allocation request forms and expense codes created to implement the 2003 HAVA State Plan would continue to be used, or modified, as appropriate to monitor and track HAVA spending. Agreements specifying the use of the funds would be entered into prior to disbursements being made. Recipients may be required to submit written reports to the Secretary of State indicating the status and level of success of any project or activity receiving funding through the Secretary of State.

Audits conducted by the State of Georgia Department of Audits and Accounts will be used to monitor HAVA expenditures.

5.3 Voter Education and Training

Part 5.3 of Georgia's State Plan implementation describes “how the State will provide for programs for voter education, election official education and training, and poll worker training which will assist the State in meeting the requirements of Title III” as required by Public Law 107-252, Help America Vote Act of 2002, Section 254(a)(3).

5.3.1 Voter Education

Since the 2002 general election, introduction of Georgia's uniform statewide voting system, voters have become very familiar with their voting equipment through educational programs and its use in 3 statewide election cycles.

Continuing voter education focuses on reaching voters who are new to Georgia's voting process. This includes youth who are about to reach voting age, as well as newly registered adults. The Secretary of State's Web site posts information showing current voting equipment and how it is used, to which all voters may refer. In addition, county election officials publically display demonstration voting units before elections. The Secretary of State will continue to explore voter education outreach in cooperation with local election officials and non-governmental organizations.

5.3.2 Election Official Training

The Secretary of State's Office continues to train local election officials on the use of Georgia's voting system to properly conduct elections. The Secretary of State's Office maintains an election lab for voting equipment training and offers local election officials regularly scheduled classes on the use of the statewide uniform voting system components for specific elections tasks.

Georgia's election law requires local election officials to become certified by completing up to 64 hours of courses approved by the Secretary of State. O.C.G.A. 21-2-101. Georgia's certification program for local election officials continues to be updated based on lessons learned from previous elections. It is anticipated that this program will be further expanded and customized for county election superintendents and registrars, as well as for municipal election officials.

Georgia election law also requires local election officials to obtain on-going training. O.C.G.A. 21-2-100(a). Annual training conferences have been, and continue to be, conducted in collaboration with statewide election official associations.

Certification and on-going training programs include the electronic voting system; polling place procedures and poll worker training; local, state, and federal election laws governing administrative duties; disability access initiatives; voter registration and education initiatives; new legislation that affects local, state, and federal election laws; and any other topics that may enhance the administration of elections.

5.4 Voting System Standards

Part 5.4 of Georgia's State Plan implementation describes “how the State will adopt voting system guidelines and processes, which are consistent with the requirements of Section 301” as required by Public Law 107-252, Help America Vote Act of 2002, Section 254(a)(4).

Voting System Guidelines adopted by the 21st Century Voting Commission and used to select the statewide uniform electronic voting system used in the 2002 General Election were established in 2001 and passed into law by the Georgia General Assembly in 2001 through Senate Bill 213. O.C.G.A. 21-2-300.

5.5 Election Fund Established

Part 5.5 of Georgia's State Plan implementation describes “how the State will establish a Fund described in subsection (b) for purposes of administering the State's activities under this part, including information on fund management” as required by Public Law 107-252, Help America Vote Act of 2002, Section 254(a)(5).

With the approval from the State of Georgia Department of Audits, the Office of Secretary of State established a separate bank account for the Election Fund and has assigned an internal identification code for tracking the expenditures. The Election Fund has been designated as a federal election fund account that shall only be used for the enhancement and continuation of election administration. The Fund also contains individual expenditure codes for tracking Section 101, Section 102, Title II, and matching fund expenditures.

5.6 Proposed Budget

Part 5.6 of Georgia's State Plan implementation describes “how the State's proposed budget for activities under this part, based on the State's best estimates of the costs of such activities and the amount of funds to be made available, including specific information on:

(A) The costs of the activities required to be carried out to meet the requirements of Title III;

(B) The portion of the requirements payment which will be used to carry out activities to meet such requirements; and

(C) The portion of the requirements payment which will be used to carry out other activities” as required by Public Law 107-252, Help America Vote Act of 2002, Section 254(a)(6).

5.6.1 Available Funds

The U.S. Omnibus Appropriations Act for Fiscal Year 2008 (Pub. L. 110-161) includes $115 million in “Requirements Payments” to help states improve the administration of Federal elections under HAVA, Title II, Subtitle D, Part 1. Georgia is eligible for $3,169,840 of these funds. To receive its allocated portion, Georgia will certify its eligibility as prescribed in HAVA Section 253. As part of this certification, Georgia will affirm the state's appropriation of the required match of at least 5 percent ($166,834).

As of July 2008 the State of Georgia had approximately $1,137,260 remaining from earlier HAVA disbursements under Title I and $497,587 remaining from disbursements under Title II.

Activities are planned anticipating the full availability of new funds appropriated in 2008 and of funds retained from appropriations in earlier years.

Table 3—Available HAVA Funds
| Federal funds | State match | Total
Remaining Title I Funds | $1,137,260 | (already spent) | $1,137,260
Remaining Title II Funds | $497,587 | (already spent) | $497,587
2008 Funds Title II | $3,169,840 | $166,834 | $3,336,674
Total Funds Available |  |  | $4,971,521

5.6.2 Planned Activities

To address requirements of Title III in 2008 and following years, Georgia will expend funds for the following purposes contingent upon priorities discussed below as well as the availability of funds:

Table 4—Planned Activity and Costs
Activity | Estimated costs
1. Voting System Maintenance and Component Replacement | $100,000 to $450,000.
2. Centralized Voter Registration System | $8 million to $15 million.
3. Training, Outreach, and Other Activities | $50,000 to $500,000.

1. Voting System Maintenance and Component Replacement: A portion of the available funds will be used to conduct maintenance of voting systems and to repair or replace components as needed. Many components of Georgia's statewide electronic voting system were put in place in 2002. To ensure the on-going integrity of Georgia's voting system, a preventive maintenance program will extend the operational life of servers, improve security, and identify any current or potential component replacement needs.

The replacement of aging servers at each county will be a high priority. Actions necessary to support county voting system servers in an approaching election will have first priority. It is anticipated that 168 servers will be replaced during 2008 and the following years at a cost of approximately $400,000. This will accommodate one server per county, as well as a small State inventory for emergency replacement and dedicated training units.

2. Centralized Voter Registration System: A portion of the available funds will be used to replace the fifteen-year old (1993) statewide voter registration database currently being used by the State. The 1993 system is antiquated and requires extensive maintenance. Very high operating costs (by the keystroke) and high maintenance costs of this system are an on-going burden. Replacing the system will: allow for more effective use of elections funds; help ensure the quality and reliability of voter registration data management; give every county a more reliable and efficient interface with the centralized voter registration system; and allow improved integration with related election administration and reporting functions.

Under the 2003 HAVA State Plan, the Secretary of State conducted a preliminary assessment of available vendors that were capable of replacing the current system with a state-of-the-art system. The Secretary of State also compiled a high level requirements analysis for the successor system. The next steps of this process are to prepare detailed performance specifications, including a functional requirements analysis of the new system, and then to proceed with building, testing, and deployment.

The estimated cost of the new system is $8 to $15 million. The use of HAVA funds from both Title I and Title II is anticipated.

3. Training, Outreach, and Other Activities: As described in Section 5.3, the State of Georgia will continue to conduct outreach to voters who need to be introduced to the voting system used throughout the state. In addition, training will continue to be provided to local election officials on the use of Georgia's voting system and voter registration system to properly conduct elections. Enhancing voters' access to processes related to poll location, registration status confirmation, complaints, and status of absentee and provisional balloting may also be addressed. In the future, consideration may also be given to evaluating replacement of Georgia's present electronic voting equipment as it begins to age. Use of HAVA funds for these activities is contingent upon the availability of funds.

5.7 Maintenance of Effort

Part 5.7 of Georgia's State Plan implementation describes “how the State, in using the requirements payment, will maintain the expenditures of the State for activities funded by the payment at a level that is not less than the level of such expenditures maintained by the State for the fiscal year prior to November 2000” as required by Public Law 107-252, Help America Vote Act of 2002, Section 254(a)(7).

The State of Georgia will continue to maintain or exceed that level of election administration expenditures incurred during the State Fiscal Year 2000 ($4,598,813) while conducting activities that fall under the Title III requirements of the Help America Vote Act.

5.8 Performance Goals and Measures

Part 5.8 of Georgia's State Plan implementation describes “how the State will adopt performance goals and measures that will be used by the State to determine its success and the success of units of local government in the State in carrying out the plan, including timetables for meeting each of the elements of the Plan, descriptions of the criteria the State will use to measure performance and the process used to develop such criteria, and a description of which official is to be held responsible for ensuring that each performance goal is met” as required by Public Law 107-252, Help America Vote Act of 2002, Section 254(a)(8).

In collaboration with local election officials, the Secretary of State establishes goals and performance measures to ensure compliance with HAVA requirements. Regular reviews of Georgia's election laws, policies, and procedures help ensure that election administration and voter registration processes are impartial and efficient and subject to on-going improvements.

5.8.1 Performance Goals

For the initial implementation and deployment of the statewide uniform electronic voting system Georgia developed milestones and goals through the 21st Century Voting Commission as described earlier in detail. Milestones remain for having system components in place and tested before each election, local election officials trained in a timely manner, and for Election Day performance reporting. Scheduling for individual milestones is periodically reviewed and subject to change by the Secretary of State in consultation with local election officials and other parties knowledgable in the matters under consideration.

In 2008, and the years following, maintenance and replacement of GEMS servers in each county will be done in a manner to continue past performance of the statewide uniform electronic voting system. Any additional goals and measures will be addressed by the Secretary of State in the particular contract's statement of work under which the task is carried out.

5.8.2 Performance Measures

As preparations begin to develop Georgia's new voter registration system, the Secretary of State will develop a project team to develop project goals and measures to be incorporated in related RFPs and contract statement-of-work clauses. It is anticipated that input will be solicited from local election officials as well as from other Georgia State Agencies who will interact with the Secretary of State in replacing the existing system, and in using the new system.

Additionally, the Secretary of State periodically convenes an Elections Advisory Committee of local officials which provides input on enhancing election administration within the State. Through this process additional goals and measures may also be developed to further other objectives of HAVA.

5.9 Administrative Complaint Procedures

Part 5.9 of Georgia's State Plan implementation provides “a description of the uniform, nondiscriminatory state-based administrative complaint procedures in effect under section 402” as required by Public Law 107-252, Help America Vote Act of 2002, Section 254(a)(9).

5.9.1 Georgia Rulemaking and Certification

Georgia's administrative complaint process is provided in Georgia Rule 590-8-1-.01 “Administrative Complaint Procedure for Violations of Title III of the Help America Vote Act of 2002” adopted May 11, 2004 under authority provided in O.C.G.A. Secs. 21-2-1 and 21-2-50.2. Text of Georgia Rule 590-8-2-.01 was certified to the EAC which published it in the Federal Register, Vol. 70, No. 169, Thursday, September 1, 2005 at page 52160. These procedures, described below, provide a uniform manner in which to receive and resolve any complaints alleging a violation of HAVA.

5.9.2 Administrative Complaint Process

Georgia Rule 590-8-1-.01 “Administrative Complaint Procedure for Violations of Title III of the Help America Vote Act of 2002” provides as follows:

(1) Any person who believes that a violation of any provision of Title III of the Help America Vote Act of 2002 (Public Law 107-252; 42 U.S.C. 15301, et seq.) has occurred, is occurring, or is about to occur may file a complaint with the Secretary of State. Such complaint shall be open to inspection by the public during business hours upon reasonable notice.

(2) Such complaint shall be in writing and shall be signed and sworn to by the person making the complaint and shall be properly notarized in accordance with state law. The complaint shall be delivered to and served upon the Secretary of State as the chief state election official in person, by U.S. Mail, or by guaranteed overnight delivery.

(3) The Secretary of State shall investigate the allegations of such complaint. If more than one complaint is filed concerning the same alleged violation, the Secretary of State may consolidate such complaints for investigation.

(4) If the complainant requests, the Secretary of State or a designee thereof shall conduct a hearing on the allegations of the complaint. Such hearing may be by telephone, conference call, or in person and shall be recorded.

(5) If the Secretary of State or a designee thereof determines that such complaint is unfounded, the Secretary of State may dismiss the complaint and notify the complainant of her decision. The Secretary of State shall make the results of her investigation into the complaint available for public inspection during normal business hours upon reasonable notice after the matter has been resolved

(6) The Secretary of State or designee thereof shall make a determination of the validity of the complaint within 90 days following the date on which the complaint is received by and filed with the Secretary of State unless the complainant agrees to an extension of such time period.

(7) If the Secretary of State or designee thereof determines that such complaint is valid, the Secretary of State shall take all necessary and appropriate actions within her authority to address the violation; and

(8) If the Secretary of State or designee thereof does not render a final determination on a complaint filed pursuant to this rule within 90 days after the complaint is filed, or within any extension period to which the complainant has agreed, the Secretary of State or designee thereof will, on or before the third business day after the final determination was due to be issued, initiate proceedings for alternative dispute resolution;

(a) To facilitate alternative dispute resolution, the Secretary of State shall maintain a list of qualified independent professionals who are capable of acting as a mediator, from which the Secretary of State or designee thereof and the complainant shall each choose one mediator to review the case.

(b) The Secretary of State or designee thereof shall designate in writing to the complainant the name of a mediator from the list referenced in section (a) to serve on an alternative dispute resolution panel (resolution panel) to review the complaint.

1. If proceedings for alternative dispute resolution are initiated pursuant to this paragraph, not later than 3 business days after the complainant receives such a designation from the Secretary of State or designee thereof, the complainant shall designate in writing to the Secretary of State or designee thereof the name of a second mediator. If the complainant fails to designate a mediator within the time allowed above, the sole mediator shall review the record from the hearing and make a final recommendation based on the submitted record. Not later than 3 business days after such a designation by the complainant, the two mediators so designated shall select a third mediator to complete the resolution panel. If the complainant fails to designate a mediator within the time allowed above, the sole mediator shall review and dispose of the matter without selecting a second or third mediator.

2. The mediator or resolution panel may review the record compiled in connection with the complaint, including, without limitation, the investigative file on the matter, the audio recording of the hearing, any transcript of the hearing and any briefs or memoranda submitted by the parties but shall not receive any additional testimony or evidence to resolve the matter.

3. The mediator or resolution panel by a majority vote, shall after reviewing the record referenced above, provide a recommendation to the Secretary of State not later than 50 days after the final determination of the Secretary of State was due. This period for issuing a written recommendation will not be extended.

4. Upon receipt of the recommendation from the mediator or resolution panel, the Secretary of State or designee thereof shall issue a final order pursuant to the authority granted under O.C.G.A. 21-2-50.2(c), but such remedy shall not exceed the remedies available under Title III of the Help America Vote Act of 2002.

5. The final order of the Secretary of State or designee thereof will be:

(i) Mailed to the complainant, each respondent and any other person who requested in writing to be advised of the final resolution;

(ii) Posted on the website of the Secretary of State; and

(iii) Made available by the Secretary of State, upon request by any interested person.

6. A final determination by the Secretary of State or designee thereof is not subject to appeal in any state or federal court.

5.10 Effect of Title I Payments

Part 5.10 of Georgia's State Plan implementation provides “if the State received any payment under Title I, a description of how such payment will affect the activities proposed to be carried out under the plan, including the amount of funds available for such activities” as required by Public Law 107-252, Help America Vote Act of 2002, Section 254(a)(10).

As set forth in the 2003 HAVA State Plan, Title I, Section 102 funds were used to service bond indebtedness generated by the purchase of a statewide electronic voting system to replace all punch card and lever voting systems in Georgia. This program was timely concluded.

Title I, Section 101 funds will allow the State to begin the process of acquiring a new voter registration system to replace the 1993 system currently in use. This activity is described in Section 5.6. This project was anticipated in the 2003 HAVA State Plan. While preliminary assessments were started, detailed requirements analysis, acquisition, testing and deployment remain. Title I, Section 101 funds available for this activity are estimated as being $1,137,260.

5.11 Management of the Plan

Part 5.11 of Georgia's State Plan implementation describes “how the state will conduct ongoing management of the Plan” as required by Public Law 107-252, Help America Vote Act of 2002, Section 254(a)(11).

The Elections Division of the Secretary of State will manage the Plan. The Election Division will continue to oversee continuation of existing projects as well as newly created election projects.

“Material Changes” to the Plan may be developed on a periodic basis as necessary to reflect new milestones and performance measures used to gauge the effectiveness of the Plan and to accommodate emerging needs in the future.

5.12 Previous State Plan Implementation and Changes

Part 5.12 of Georgia's State Plan implementation describes how “the case of a State with a State Plan in effect * * * during the previous fiscal year, * * * how the Plan reflects changes from the State Plan for the previous fiscal year and of how the State succeeded in carrying out the State Plan for such previous fiscal year” as required by Public Law 107-252, Help America Vote Act of 2002, Section 254(a)(12).

The summary of the changes that the 2008 HAVA State Plan, Amended makes to the 2003 plan, and of how the State succeeded in carrying out the 2003 HAVA State Plan previously in effect is provided in detail in the preceding chapter.

5.13 State Plan Committee

Part 5.13 of Georgia's State Plan implementation provides “a description of the committee, which participated in the development of the State Plan in accordance with section 255 and the procedures followed by the committee under such section and section 256” as required by Public Law 107-252, Help America Vote Act of 2002, Section 254(a)(13).

The “2008 HAVA State Plan Committee” is comprised of the following appointees:

1. Secretary of State's Office, Wesley Tailor, Elections Division Director;

2. Fulton County: April Pye, Interim Election Supervisor;

3. DeKalb County: Linda Latimore, Election Supervisor;

4. Clarke County: Gail Schrader, Supervisor of Elections and Registration;

5. Rockdale County: Cynthia Welch, Election Supervisor;

6. Muscogee County: Nancy Boren, Elections and Voter Registration Director;

7. Richmond County: Lynn Bailey, Election Supervisor;

8. Georgia State ADA Office, Mike Galifianakis, Coordinator.

The 2008 HAVA State Plan Committee continues the work of groups described in Part One of this report. The success of earlier, larger initiatives and the much smaller scope of the 2008 amendments allowed the process in 2008 to be more streamlined than in 2003.

Initial review drafts of the 2008 HAVA State Plan, Amended were prepared by the Secretary of State's Office and distributed to members of the State Plan Committee. After reviewing the initial working draft, the Committee discussed the draft and proposed edits. After incorporating input, the Preliminary 2008 State Plan, Amended was posted for public comment. Comments were compiled by the Secretary of State's Office, shared with the Committee, and addressed as appropriate in the Final 2008 HAVA State Plan, Amended before being submitted to the Election Assistance Commission for publishing in the Federal Register.

Appendix 1—2003 Status & Implementation

12/10/03 Status | Provision mandated by HAVA | Implemented
Voting System Standards
v | Permit voter to verify votes selected before casting ballot | 2002.
v | Provide voter opportunity to change/correct ballot before casting ballot | 2002.
v | Offer notice if voter selects votes for more than 1 candidate for a single office | 2002.
v | Voting system shall ensure that any notification required preserves voter privacy | 2002.
v | System must produce a record with an audit capacity (satisfied by audit capacity redundant electronic storage) | 2002.
Accessibility for Individuals With Disabilities
v | Voting system must be accessible for individuals with disabilities, including visual impairment and must preserve voter privacy and must offer independence in voting | 2002.
v | At least 1 DRE with accessibility for disabled individuals at each place | 2002.
Error Rates of System
v | Error rates of system shall comply with error rate standards of FEC | 2002.
Uniform Definition of What Constitutes a Vote
~ | State must adopt uniform and nondiscriminatory standards that define what constitutes a vote and what will be counted as vote for each voting system used in state | State Election Board Rule 183-1-15-.02, May, 2004.
Provisional Voting
v | Must have provisional vote option | 2002.
v | To cast provisional ballot, voter must (1) affirm in writing that the person is a registered voter in the jurisdiction; (2) is eligible to vote in that election | 2002.
~ | Provisional voter must be given information as to how to determine if vote was counted, and if not, the reason vote was not counted | Authorized by SB 258 and Implemented 2004.
~ | Provisional voter must be given access to a toll-free number or Web site that may be used to determine whether vote was counted or not; access may be provided at county level | Authorized by SB 258 and Implemented 2004.
Voting Information Requirements
~ | Voting information (sample ballot, date/hours of election, instructions on casting a ballot/provisional ballot, instructions for mail-in registrants who are first time voters, information on federal and state election laws) must be publicly posted at each polling place on each election for federal office | Implemented 2004.
~ | Voters casting ballots after normal hours (i.e., court ordered extension) must vote a provisional ballot kept separate from other provisional ballots | Authorized by SB 258 and Implemented 2004.
Computerized Statewide Voter Registration List Requirement
v | Implement a single, uniform, centralized, interactive, computerized statewide voter registration list defined and administered at state level | Implemented before 2002.
v | Computerized list shall serve as the single system for storing and managing official list of registered voters (first time voters must be identified on list) | Authorized by SB 258 and Implemented 2004.
v | List shall have unique identifier for each registered voter of state | Implemented before 2002.
v | List shall be coordinated with other state agency databases (in conjunction with on-going system upgrade) | Implemented before 2002.
v | Registration information must be promptly entered into database upon receipt of local election officials | Implemented before 2002.
v | Electronic list shall serve as official list for federal elections | Implemented before 2002.
v | Names to be removed from list must follow procedures outlined in NVRA | Implemented before 2002.
v | List is to be maintained to remove ineligible voters, including: • Convicted felons • Death • Duplicate Names | Implemented before 2002.
v | Appropriate technological security measures shall be provided to protect list | Implemented before 2002.
v | The election system must be set up for minimum maintenance standards consistent with NVRA | Implemented before 2002.
v | Upon application for voter registration, applicant must provide a unique identifying number as prescribed by HAVA [Note: States using a SSN are grandfathered into this provision as unique identifier requirement is met] | Implemented before 2002, modified 2004.
v | The chief election official and the state motor vehicle authority shall enter into an agreement to match data to the extent required to verify the accuracy of data provided for voter registration | Implemented before 2002 (with on-going enhancements).
Requirements for First Time Voters Who Register by Mail
v | For individuals that register by mail and have not previously voted within the state • IF VOTING IN PERSON: (1) Presents current and valid photo ID; or (2) presents a copy of a current utility bill, bank statement, government check, paycheck or other government document showing name and address of voter • IF PERSON VOTES BY MAIL: Absentee ballot must contain (1) Copy of current and valid photo ID; or (2) a copy of a current utility bill, bank statement, government check, paycheck or other government document that shows name and address of voter | Authorized by SB 258 and Implemented 2004.
v | FAIL SAFE VOTING: For first-time voters registering by mail that do not provide required identification may be allowed to cast a provisional ballot | Authorized by SB 258 and Implemented 2004.
v | Registration forms must conform to NVRA and HAVA (including first time voter information | Modified 2004 Forms.
v = Mandate met.
~ = Minor administrative adjustment required.

[FR Doc. E8-21800 Filed 9-17-08; 8:45 am]

BILLING CODE 6820-KF-P